SECURITIES AND EXCHANGE COMMISSION

[Release No. 34-92525; File No. SR-FINRA-2020-041]

Self-Regulatory Organizations; Financial Industry Regulatory Authority, Inc.; Order Approving a Proposed Rule Change, as Modified by Amendment No. 1 and Amendment No. 2, To Adopt FINRA Rule 4111 (Restricted Firm Obligations) and FINRA Rule 9561 (Procedures for Regulating Activities Under Rule 4111)

July 30, 2021.

Correction

In notice document 2021-16671 appearing on page 42925 in the issue of August 5, 2021, make the following correction:

On page 42925, in the second column, the file number is corrected to read as set forth above.

[FR Doc. C1-2021-16671 Filed 9-2-21; 8:45 am]

BILLING CODE 0099-10-D